DEPARTMENT OF ENERGY

Federal Energy Regulatory Commission

[Docket No. CP03-49-000]

National Fuel Gas Supply Corporation; Notice of Intent To Prepare an Environmental Assessment for the Proposed Abandonment of Facilities at Summit Storage Field and Request for Comments on Environmental Issues

March 13, 2003.

The staff of the Federal Energy Regulatory Commission (FERC or Commission) will prepare an environmental assessment (EA) that will discuss the environmental impacts of a proposal by National Fuel Gas Supply Corporation (National Fuel) to abandon certain facilities at its Summit Storage Field in Summit Township, Erie County, Pennsylvania.¹ These facilities consist of about 752 feet of 4-inch pipe, that would be disconnected and abandoned in place to minimize construction-related disturbances, and two injection/withdraw wells, and one observation well that would be plugged and abandoned. The EA will be used by the Commission in its decision-making process to determine whether the project is in the public convenience and necessity.

¹ National Fuel's application was filed with the Commission under Section 7 of the Natural Gas Act and part 157 of the Commission's regulations.

If you are a landowner receiving this notice, you may be contacted by a pipeline company representative about the abandonment of the proposed facilities. The pipeline company would seek to negotiate a mutually acceptable agreement. However, if the projects are approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the notice National Fuel provided to affected landowners. This fact sheet addresses a number of typically asked questions, including the use of eminent domain and how to participate in the Commission's proceedings. It is available for viewing on the FERC Internet Web site (http://www.ferc.gov).

Summary of the Proposed Projects

National Fuel proposes to plug and abandon natural gas storage wells P-1511, P-1518 (indicator well), and P-1528, and to abandon in place the associated 4-inch-diameter well lines. The locations of the project facilities are shown in Appendix 1.² The abandonment of the wells and well lines would involve dismantling and removing the appurtenances at the well heads, including meters, valves, drips, and associated piping. The well lines connecting the wellhead to Line S-52 would be disconnected, purged, capped, and abandoned in place. The applicant states that deliverability from the wells has decreased over time, primarily due to deterioration of the facilities and they are not necessary for the continued operation of the storage field. All project components are located in the Summit Heights Mobile Home Park in Summit Township. All work would take place within the existing well sites and National Fuel's 35-foot-wide permanent right-of-way (ROW). No nonjurisdicitonal facilities are involved.

² The appendices referenced in this notice are not being printed in the Federal Register nor will they be available on the Commission's website. Copies are available from the Commission's Public Reference and Files Maintenance Branch, 888 First Street, NE., Washington, DC 20426, or call (202) 502-8371. Copies of the appendices were sent to all those receiving this notice in the mail.

Land Requirements for Construction

The project area encompasses a total of approximately 1.19 acres of land, including the three well pad work areas and a 35-foot-wide ROW associated with each of the three well lines. Work space will be confined to National Fuel's existing 35-foot-wide permanent ROW and the three wellhead areas. No access roads other than public roadways and roadways within the Summit Heights residential community will be required to complete the proposed project. No improvements to these roads will be required for the proposed activities.

Following completion of the abandonment project, National Fuel would allow the easements associated with the permanent ROWs to revert back to the use of property owners in Summit Heights Mobile Home Park. The construction workspaces would be restored and allowed to revert to their previous land use and vegetative cover.

The EA Process

The National Environmental Policy Act (NEPA) requires the Commission to take into account the environmental impacts that could result from an action whenever it considers the issuance of a Certificate of Public Convenience and Necessity. NEPA also requires the Commission to discover and address concerns the public may have about proposals. This process is referred to as “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

The EA will discuss impacts that could occur as a result of the proposed abandonment project under these general headings:

1. Geology and soils

2. Land use

3. Water resources, fisheries, and wetlands

4. Cultural resources

5. Vegetation and wildlife

6. Air quality and noise

7. Endangered and threatened species

8. Hazardous waste

9. Public safety

We will also evaluate reasonable alternatives to the proposed project or portions of the project, and make recommendations on how to lessen or avoid impacts on the various resource areas. Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket No. CP03-49-000.

• Mail your comments so that they will be received in Washington, DC on or before April 14, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

We may mail the EA for comment. If you are interested in receiving it, please return the Information Request (Appendix 3). If you do not return the Information Request, you will be taken off the mailing list.

Becoming an Intervener

In addition to involvement in the EA scoping process, you may want to become an official party to the proceeding known as an “Intervener.” Interveners play a more formal role in the process. Among other things, Interveners have the right to receive copies of case-related Commission documents and filings by other Interveners. Likewise, each Intervener must provide 14 copies of its filings to the Secretary of the Commission and must send a copy of its filings to all other parties on the Commission's service list for this proceeding. If you want to become an Intervener you must file a motion to intervene according to Rule 214 of the Commission's Rules of Practice and Procedure (18 CFR 385.214) (see Appendix 2).⁴ Only Interveners have the right to seek rehearing of the Commission's decision.

⁴ Interventions may also be filed electronically via the Internet in lieu of paper. See the previous discussion on filing comments electronically.

Affected landowners and parties with environmental concerns may be granted Intervener status upon showing good cause by stating that they have a clear and direct interest in this proceeding which would not be adequately represented by any other parties. You do not need Intervener status to have your environmental comments considered.

Environmental Mailing List

This notice is being sent to individuals, organizations, and government entities interested in and/or potentially affected by the proposed project. It is also being sent to all identified potential right-of-way grantors and residents adjacent to the proposed facilities. By this notice we are also asking governmental agencies, to express their interest in becoming cooperating agencies for the preparation of the EA.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of the application and supplemental filings by National Fuel, and formal documents issued by the Commission, such as orders, notices, and rulemakings.

Magalie R. Salas,
Secretary.

[FR Doc. 03-6599 Filed 3-18-03; 8:45 am]

BILLING CODE 6717-01-P